DEPARTMENT OF HEALTH AND HUMAN SERVICES

Health Resources and Services Administration

42 CFR Part 51a

RIN # 0906-AA70

Healthy Tomorrows Partnership for Children Program (HTPC)

AGENCY: Health Resources and Services Administration (HRSA), HHS.

ACTION: Notice of proposed rulemaking.

SUMMARY: This notice sets forth the Secretary's proposal to require HTPC grant recipients to contribute non-Federal matching funds in years 2 through 5 of the project period equal to two times the amount of the Federal Grant Award or such lesser amount determined by the Secretary for good cause shown.

DATES: To be considered, comments on this proposed rule must be submitted by February 27, 2006. Subject to consideration of the comments submitted, the Department intends to publish final regulations.

ADDRESSES: See Supplementary Information Request for Comments section for addresses for submitting all comments concerning this proposed rule.

FOR FURTHER INFORMATION CONTACT: Jose Belardo, J.D., 301-443-0757.

SUPPLEMENTARY INFORMATION:

Background

Authorized by 42 U.S.C. 701(a)(3), the HTPC is a grant program funded and administered by the Health Resources and Services Administration's (HRSA) Maternal and Child Health Bureau (MCHB). Its purpose is to stimulate innovative community-based programs that employ prevention strategies to promote access to health care for children and their families nationwide by providing grant funds to implement a new or enhance an existing child health initiative. Currently, there are 58 HTPC funded projects. In fiscal year (FY) 2005 48 projects are continuing grantees and 10 are newly funded.

Since the inception of this grant program in 1989, the HTPC has issued a programmatic requirement in its guidance that grant applicants must demonstrate the capability to meet cost participation goals by securing non-Federal matching funds and/or in-kind resources for the second through fifth years of the project. One of the key goals of this initiative is that funded programs are to be sustainable beyond the 5-year Federal funding period. In 1999, a formal evaluation of the HTPC The Healthy Tomorrows Partnership for Children Program in Review: Analysis and Findings of a Descriptive Survey was completed, and the authors concluded that the required match fosters long-term sustainability and leveraging of community resources. There was a 70 percent sustainability rate for those projects with activities that were sustained after the Federal funding period.

This NPRM proposes to formally introduce a cost participation component to the HTPC grant program, thus requiring its grantees to contribute non-Federal matching funds and/or in-kind resources in years 2 through 5 of the 5-year project period equal to two times the amount of the Federal Grant Award or such lesser amount determined by the Secretary for good cause shown. The non-Federal matching funds and/or in-kind resources must come from non-Federal funds, including, but not limited to, individuals, corporations, foundations, in-kind resources, or State and local agencies. Documentation of matching funds would be required (i.e., specific sources, funding level, in-kind contributions). Reimbursement for services provided to an individual under a State plan under Title XIX will not be deemed “non-Federal matching funds” for the purposes of this provision.

Request for Comments

The Secretary invites public comment as to the advisability of including a cost participation/matching component to the HTPC. You may submit comments, identified by RIN #0906-AA70, by any of the following methods:

• Federal eRulemaking Portal: http://www.regulations.gov. Follow the instructions for submitting comments.

• Agency Web Site: http://www.hrsa.gov/. Follow the instructions for submitting comments on the Agency Web site.

• E-mail: jbelardo@hrsa.gov. Include RIN #0906-AA70 in the subject line of the message.

• Fax: 301-443-4842

• Mail: Jose Belardo, J.D., Division of Research, Training and Education, Maternal and Child Health Bureau, Health Resources and Services Administration, 5600 Fishers Lane, Room 18A-55, Rockville, MD 20857.

• Hand Delivery/Courier: Jose Belardo, J.D., Division of Research, Training and Education (DRTE), MCHB, HRSA, 5600 Fishers Lane, Room 18A-55, Rockville, MD 20857.

Instructions: All submissions received must include the agency name and Regulatory Information Number (RIN) for this rulemaking. All comments received will be posted without change to http://www.hrsa.gov/, including any personal information provided. Docket: For access to the docket to read background documents or comments received go to DRTE, MCHB, HRSA, 5600 Fishers Lane, Rockville, Maryland weekdays between the hours of 8:30 a.m. and 5 p.m. To schedule an appointment to view public comments, phone (301) 443-0757.

Economic and Regulatory Impact

Executive Order 12866—Regulatory Planning and Review

HRSA has examined the economic implications of this proposed rule as required by Executive Order 12866. Executive Order 12866 directs agencies to assess all costs and benefits of available regulatory alternatives and, when regulation is necessary, to select regulatory approaches that maximize net benefits (including potential economic, environmental, public health and safety, and other advantages; distributive impacts; and equity). Executive Order 12866 classifies a rule as significant if it meets any one of a number of specified conditions, including: having an annual effect on the economy of $100 million, adversely affecting a sector of the economy in a material way, adversely affecting competition, or adversely affecting jobs. A regulation is also considered a significant regulatory action if it raises novel legal or policy issues.

HRSA concludes that this proposed rule is a significant regulatory action under the Executive Order since it raises novel legal and policy issues under Section 3(f)(4). HRSA concludes, however, that this proposed rule does not meet the significance threshold of $100 million effect on the economy in any one year under Section 3(f)(1). HRSA requests comments regarding this determination, and invites commenters to submit any relevant data that will assist the Agency in estimating the impact of this rulemaking.

Impact of the New Rule

Inclusion of this rule will greatly enhance grant recipients' ability to achieve the HTPC goal/performance measure of program sustainability beyond the 5-year Federal funding period.

Paperwork Reduction Act of 1995

The proposed rule does not impose any new data collection requirements.

List of Subjects in 42 CFR Part 51a

Grant programs—Handicapped, Health, Health care, Health professions, Maternal and Child Health.

Dated: April 20, 2005.
Elizabeth M. Duke,
Administrator, Health Resources and Services Administraion.
Approved: November 4, 2005.
Michael O. Leavitt,
Secretary.

For the reasons set forth in the preamble, HRSA proposes to amend 42 CFR part 51a as follows:

PART 51a—PROJECT GRANTS FOR MATERNAL AND CHILD HEALTH

1. The authority citation for part 51a continues to read as follows:

Authority: 42 U.S.C. 1302; 42 U.S.C. 702(a), 702(b)(1)(A) and 706(a)(3).

2. Amend § 51a.8 to add paragraph (c) to read as follows:

§ 51a.8 What other conditions apply to these grants?

* * * * *

(c) Grant recipients of Healthy Tomorrows Partnership for Children Program, a Community Integrated Service System-funded initiative, must contribute non-Federal matching funds in years 2 through 5 of the project period equal to two times the amount of the Federal Grant Award or such lesser amount determined by the Secretary for good cause shown. Reimbursement for services provided to an individual under a State plan under Title XIX will not be deemed “non-Federal matching funds” for the purposes of this provision.

[FR Doc. 05-24444 Filed 12-23-05; 8:45 am]

BILLING CODE 4165-15-P